DEPARTMENT OF LABOR

Mine Safety and Health Administration

Proposed Information Collection Request Submitted for Public Comment and Recommendations; Underground Retorts

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR Section 57.22401; Underground Retorts.

DATES: Submit comments on or before June 29, 2009.

ADDRESSES: Send comments to, Debbie Ferraro, Management Services Division, 1100 Wilson Boulevard, Room 2141, Arlington, VA 22209-3939. Commenters are encouraged to send their comments on computer disk, or via e-mail to Ferraro.Debbie@DOL.GOV. Ms. Ferraro can be reached at (202) 693-9821 (voice), or (202) 693-9801 (facsimile). Because of potential delays in receipt and processing of mail, respondents are strongly encouraged to submit comments electronically to ensure timely receipt. We cannot guarantee that comments mailed will be received before the comment closing date.

FOR FURTHER INFORMATION CONTACT: Contact the employee listed in the ADDRESSES section of this notice.

SUPPLEMENTARY INFORMATION:

I. Background

This regulation pertains to the safety requirements to be followed by the mine operators in the use of underground retorts to extract oil from shale by heat or fire. Prior to ignition of retorts, the mine operator must submit a written plan indicating the acceptable levels of combustible gases and oxygen; specifications and location of off-gas monitoring procedures and equipment; procedures for ignition of retorts and details of area monitoring and alarm systems for hazardous gases and actions to be taken to assure safety of miners.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the ADDRESSES section of this notice, or viewed on the Internet by accessing the MSHA home page (http://www.msha.gov/) and selecting “Rules & Regs”, and then selecting “FedReg. Docs”. On the next screen, select “Paperwork Reduction Act Supporting Statement” to view documents supporting the Federal Register Notice.

III. Current Actions

This request for information contains provisions whereby mine operators can maintain compliance with the regulations and assure the safety of miners where underground retorts are used.

Type of Review: Extension.

Agency: Mine Safety and Health Administration.

Title: Underground Retorts.

OMB Number: 1219-0096.

Frequency: On occasion.

Affected Public: Business or other for-profit.

Respondents: 1.

Total Burden Hours: 160 hours.

Total Burden Cost (capital/startup): $0.

Total Burden Cost (operating/maintaining): $0.

Comments submitted in response to this notice will be summarized and/or included in the request for Office of Management and Budget approval of the information collection request; they will also become a matter of public record.

Dated at Arlington, Virginia, this 24th day of April 2009.
John Rowlett,
Director of Management Services Division.

[FR Doc. E9-9945 Filed 4-29-09; 8:45 am]

BILLING CODE 4510-43-P